NUCLEAR REGULATORY COMMISSION

[Docket No. IA-20-008; NRC-2020-0195]

In the Matter of Joseph Shea, Tennessee Valley Authority, Chattanooga, TN

AGENCY: Nuclear Regulatory Commission.

ACTION: Order; issuance.

SUMMARY: The U.S. Nuclear Regulatory Commission (NRC) is issuing an Order prohibiting involvement in NRC-licensed activities to Mr. Joseph Shea, Vice President Nuclear Technology Innovation at Tennessee Valley Authority (TVA), for 5 years. The NRC has determined that Mr. Joseph Shea engaged in deliberate misconduct when he played a significant role in the decisionmaking process to place a former employee on paid administrative leave on October 15, 2018 and terminate the former employee on January 14, 2019, in part, for engaging in protected activity. The Order is effective on the date of issuance.

DATES: The Order was issued on August 24, 2020.

ADDRESSES: Please refer to Docket ID NRC-2020-0195 when contacting the NRC about the availability of information regarding this document. You may obtain publicly-available information related to this document using any of the following methods:

• Federal Rulemaking Website: Go to https://www.regulations.gov and search for Docket ID NRC-2020-0075. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. Order IA-20-008, issued to Mr. Joseph Shea on August 24, 2020, is available in ADAMS under Accession No. ML20219A676.

FOR FURTHER INFORMATION CONTACT: Ian Gifford, Office of Enforcement, U.S. Nuclear Regulatory Commission, Washington DC 20555-0001; telephone: 301-287-9216, email: Ian.Gifford@nrc.gov.

SUPPLEMENTARY INFORMATION: The text of the Order is attached.

Dated: August 24, 2020.
For the Nuclear Regulatory Commission.
George A. Wilson,
Director, Office of Enforcement.

Attachment—Order Prohibiting Involvement in NRC-Licensed Activities

United States of America Nuclear Regulatory Commission

In the Matter of Joseph Shea

IA-20-008

Order Prohibiting Involvement in NRC-Licensed Activities Immediately Effective

I.

Mr. Joseph Shea is employed as Vice President Nuclear Technology Innovation at the Tennessee Valley Authority (TVA). TVA holds Browns Ferry Units 1, 2 and 3 License Nos. DPR-33, DPR-52, and DPR-68 issued by the Nuclear Regulatory Commission (NRC or Commission) pursuant to Part 50 of Title 10 of the Code of Federal Regulations (10 CFR), on December 20, 1973, June 28, 1974 and July 2, 1976, respectively. The units are located on the Licensee's site in Athens, Alabama. TVA holds Sequoyah Units 1 and 2 License Nos. DPR-77 and DPR-79 issued by the NRC pursuant to 10 CFR part 50, on September 17, 1980 and September 15, 1981, respectively. The units are located on the Licensee's site in Soddy-Daisy, Tennessee. TVA holds Watts Bar Units 1 and 2 License Nos. NPF-90 and NPF-96 issued by the NRC pursuant to 10 CFR part 50, on February 7, 1996 and October 22, 2015, respectively. The units are located on the Licensee's site in Spring City, Tennessee. The licenses authorize the operation of these facilities in accordance with the conditions specified therein.

II.

On January 21, 2020, an investigation was completed by the U.S. Nuclear Regulatory Commission (NRC) Office of Investigations (OI) related to TVA (OI Report No. 2-2019-015). The purpose of the investigation was to determine whether a former corporate employee was the subject of employment discrimination for engaging in a protected activity in violation of Title 10 of the Code of Federal Regulations (10 CFR) 50.7, “Employee Protection.”

Based on the evidence developed during the investigation and subsequent staff analysis, it appeared that Mr. Joseph Shea, as the Vice President of Regulatory Affairs at TVA, engaged in deliberate misconduct, in violation of 10 CFR 50.5, “Deliberate Misconduct,” that caused an NRC licensee to be in violation of 10 CFR 50.7, “Employee Protection.” Specifically, the NRC determined that a former corporate employee was placed on paid administrative leave on October 15, 2018, and terminated on January 14, 2019, by Mr. Joseph Shea, in part, for engaging in protected activity, including raising concerns about a chilled work environment. The former employee engaged in protected activity when expressing concerns to Mr. Joseph Shea regarding the chilled work environment that the former Director of Corporate Nuclear Licensing (CNL) was creating. Further, Mr. Joseph Shea received a copy of the TVA Office of General Counsel (OGC) draft report prepared by the TVA OGC attorney that identified the concerns of the former employee. Additionally, in a (internal TVA) complaint that the former Director of CNL provided to Mr. Joseph Shea on or about March 9, 2018, the former Director of CNL identified the former employee as the source of a chilled work environment complaint made to the NRC.

The former employee suffered an adverse action when Mr. Joseph Shea played a significant role in the decisionmaking process to place the former employee on administrative leave and terminate the former employee. There is a nexus between the former employee's protected activity of raising concerns about a chilled work environment and the termination of the former employee. Mr. Joseph Shea stated during the predecisional enforcement conference that Mr. Joseph Shea terminated the former employee for being “disrespectful” to the former Director of CNL. However, the examples used in the TVA OGC report as evidence that the former employee was “disrespectful” to the former Director of CNL were: 1) raising concerns about a chilled work environment in a TVA OGC interview; and 2) raising concerns about reprisal from the former Director of CNL directly to Mr. Joseph Shea. Mr. Joseph Shea admitted that he did not counsel the former employee about the asserted disrespectful behavior.

The NRC has determined that Mr. Joseph Shea played a significant role in the decisionmaking process to place the former employee on paid administrative leave on October 15, 2018 and terminate her on January 14, 2019, in part, for engaging in protected activities. Accordingly, the NRC has determined that Mr. Joseph Shea's actions were deliberate and violated the requirements in 10 CFR 50.5, “Deliberate Misconduct.” The NRC considers deliberate violations of 10 CFR 50.7, “Employee Protection,” significant because of the potential that individuals might not raise safety issues for fear of retaliation.

III.

Based on the above, Mr. Joseph Shea, the Vice President Nuclear Technology Innovation at TVA, engaged in deliberate misconduct, in violation of 10 CFR 50.5, “Deliberate Misconduct,” that caused the Licensee to be in violation of 10 CFR 50.7, “Employee Protection.” The NRC must be able to rely on TVA and its employees to comply with NRC requirements, including the requirement prohibiting discrimination against an employee for engaging in protected activities.

Consequently, given the significance of the underlying issues, Mr. Joseph Shea's position within TVA that has a very broad sphere of influence, and the deliberate nature of the actions, the NRC lacks the requisite reasonable assurance that licensed activities can be conducted in compliance with the Commission's requirements and that the health and safety of the public will be protected if Mr. Joseph Shea were permitted at this time to be involved in NRC-licensed activities. Therefore, Mr. Joseph Shea is prohibited from any involvement in NRC-licensed activities for a period of 5 years. Furthermore, pursuant to 10 CFR 2.202, the significance of Mr. Joseph Shea's wrongdoing described above is such that this Order be immediately effective. Mr. Joseph Shea is required to notify the NRC of his first employment in NRC-licensed activities following the prohibition period.

IV.

Accordingly, pursuant to sections 103, 161b, 161i, 161o, 182 and 186 of the Atomic Energy Act of 1954, as amended, and the Commission's regulations in 10 CFR 2.202, and 10 CFR 50.5, it is hereby ordered, immediately effective upon the date of issuance, that:

1. Mr. Joseph Shea is prohibited for 5 years from engaging in, supervising, directing, or in any other way conducting NRC-licensed activities. NRC-licensed activities are those activities that are conducted pursuant to a specific or general license issued by the NRC.

2. If Mr. Joseph Shea is currently involved with another licensee in other NRC-licensed activities, he must immediately cease those activities, and inform the NRC of the name, address, and telephone number of the employer, and provide a copy of this Order to the employer.

3. For a period of 1 year after the 5-year period of prohibition has expired, Mr. Joseph Shea shall, within 20 days of acceptance of his first employment offer involving NRC-licensed activities, as defined in paragraph IV.1 above, provide notice to the Director, Office of Enforcement, U.S. Nuclear Regulatory Commission, Washington, DC 20555-0001, the name, address, and telephone number of the employer or the entity where he is, or will be, involved in the NRC-licensed activities. In the notification, Mr. Joseph Shea shall include a statement of his commitment to compliance with regulatory requirements and the basis why the Commission should have confidence that he will now comply with applicable NRC requirements.

The Director, Office of Enforcement, or designee, may, in writing, relax, rescind, or withdraw any of the above conditions upon demonstration by Mr. Joseph Shea of good cause.

V.

In accordance with 10 CFR 2.202, Mr. Joseph Shea must submit a written answer to this Order under oath or affirmation within 30 calendar days of its issuance. Mr. Joseph Shea's failure to respond to this Order could result in additional enforcement action in accordance with the Commission's Enforcement Policy. In addition, Mr. Joseph Shea and any other person adversely affected by this Order, may request a hearing on this Order within 30 calendar days of its issuance. Where good cause is shown, consideration will be given to extending the time to answer or request a hearing. A request for extension of time must be directed to the Director, Office of Enforcement, U.S. Nuclear Regulatory Commission, Washington, DC 20555-001, and include a statement of good cause for the extension.

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

If a person other than Mr. Joseph Shea requests a hearing, that person shall set forth with particularity the manner in which his interest is adversely affected by this Order and shall address the criteria set forth in 10 CFR 2.309(d) and (f).

If a hearing is requested by Mr. Joseph Shea or a person whose interest is adversely affected, the Commission will issue an Order designating the time and place of any hearings. If a hearing is held, the issue to be considered at such hearing shall be whether this Order should be sustained. Pursuant to 10 CFR 2.202(c)(2)(i), Mr. Joseph Shea or any other person adversely affected by this Order, may, in addition to demanding a hearing, at the time the answer is filed or sooner, move the presiding officer to set aside the immediate effectiveness of the Order on the ground that the Order, including the need for immediate effectiveness, is not based on adequate evidence but on mere suspicion, unfounded allegations, or error. In the absence of any request for hearing, or written approval of an extension of time in which to request a hearing, the provisions specified in Section IV above shall be final 30 calendar days from the date this Order is issued without further order or proceedings. If an extension of time for requesting a hearing has been approved, the provisions specified in Section IV shall be final when the extension expires if a hearing request has not been received. AN ANSWER OR A REQUEST FOR HEARING SHALL NOT STAY THE IMMEDIATE EFFECTIVENESS OF THIS ORDER.

For the Nuclear Regulatory Commission.

George A. Wilson,

Director, Office of Enforcement.

[FR Doc. 2020-18928 Filed 8-27-20; 8:45 am]

BILLING CODE 7590-01-P